NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 27, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Larry Baume, Acting Director, Life Cycle Management Division (NWML), National Archives and Records Administration, 8601 Adelphi Road, College Park, MD 20740-6001. Telephone: 301-837-1505. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Air Force Clemency and Parole Board (N1-AFU-02-19, 2 items, 2 temporary items). Case files relating to the Board's consideration of clemency or parole for inmates in correctional institutions. Included are such records as summary sheets of the inmate's history, correspondence from third parties supporting or opposing clemency or parole, and copies of letters conveying the Board's decision to the inmate. Also included are electronic copies of records created using electronic mail and word processing.

2. Department of Commerce, National Oceanic and Atmospheric Administration (N1-370-02-2, 4 items, 4 temporary items). Records documenting the issuance of permits for the harvesting of halibut and sablefish. Included are such records as individual fishing permits and registered buyer certificate files. Also included are electronic copies of records created using electronic mail and word processing.

3. Department of Defense, Defense Commissary Agency, (N1-506-02-8), 92 items, 90 temporary items). Records relating to public affairs and historical program activities. Included are such records as staff biographies, speakers bureau files, community relations guidance, news releases, corporate communications guidance, customer surveys, special events plans, historical resource material, and still photographs. Also included are electronic copies of documents created using electronic mail and word processing. Recordkeeping copies of agency history files are proposed for permanent retention. This schedule authorizes the agency to apply the proposed disposition instructions to any recordkeeping medium.

4. Department of Health and Human Services, Centers for Disease Control and Prevention (N1-442-02-1, 4 items, 3 temporary items). Records of the Office of Health and Safety that relate to the activities of committees dealing with routine administrative functions, such as office relocations and parking facilities. Also included are electronic copies of documents associated with committees that are created using electronic mail and word processing. Proposed for permanent retention are recordkeeping copies of agendas, minutes, reports, and other records created by committees that deal with substantive agency functions.

5. Department of Health and Human Services, Centers for Medicare and Medicaid Services (N1-440-02-2, 12 items, 11 temporary items). Records of the Office of Hearings, including such files as background papers relating to manuals and other issuances, electronic case tracking records and related outputs, hearing decision case files, denial of provider enrollment applications, and electronic copies of records created using electronic mail and word processing. Recordkeeping copies of manuals, directives, and other issuances are proposed for permanent retention.

6. Department of Housing and Urban Development, Office of the Chief Information Officer (N1-207-02-7, 3 items, 3 temporary items). Records relating to the development of an automated system for managing departmental grants that was not implemented. Included are such records as training materials, meeting minutes, feasibility studies, and project plans. Also included are electronic copies of records created using electronic mail and word processing.

7. Department of Veterans Affairs, Veterans Health Administration (N1-15-02-2, 3 items, 3 temporary items). Files relating to actions taken by agency security and law enforcement personnel. Included are such records as statements of witnesses, reports, and other investigative materials. Electronic copies of records created using electronic mail and word processing are also included.

8. Department of the Navy, Agency-wide, (N1-NU-02-05, 18 items, 16 temporary items). Records relating to foreign disclosure policy. Included are authorizations, recommendations, and delegations of authority. Also included are electronic copies of records created using electronic mail and word processing. Proposed for permanent retention are recordkeeping copies of policy decision memoranda and formal updates to Navy information security instructions.

9. Department of Transportation, Research and Special Programs Administration (N1-467-02-1, 3 items, 3 temporary items). Exemption case file drawings that cannot be scanned into the agency's optical disk system. Electronic copies of these records created using electronic mail and word processing are also included.

10. Federal Emergency Management Agency, Federal Insurance and Mitigation Administration (N1-311-02-1, 4 items, 3 temporary). Records relating to the national flood insurance program, including floodplain management implementation files, biennial reports, and electronic copies of documents created using electronic mail and word processing. Proposed for permanent retention are recordkeeping copies of floodplain management policy files.

11. National Archives and Records Administration, Office of the Archivist (N1-64-03-1, 7 items, 7 temporary items). Inputs, outputs, and master files relating to the Performance Measurement and Reporting System, which is used for collecting and publishing statistical data concerning agency performance goals established in accordance with the Government Performance and Results Act. Also included are electronic copies of records created using electronic mail and word processing.

12. Nuclear Regulatory Commission, Office of the Secretary of the Commission (N1-431-02-1, 4 items, 4 temporary items). Electronic copies of documents created using electronic mail and word processing that are associated with such records as recommendations submitted to the Commission for decision, action memoranda, and general program correspondence files. Recordkeeping copies of these files were previously scheduled.

13. Nuclear Regulatory Commission, Office of the Commission (N1-431-02-2, 4 items, 3 temporary items). Electronic copies of documents created using electronic mail and word processing that are associated with records maintained in commissioners' chronological files, office files of the chairman and commissioners, and schedules of daily activities. Recordkeeping copies of schedules of daily activities are proposed for permanent retention. Recordkeeping copies of the other series included in this disposition request were previously scheduled for permanent retention.

Dated: November 5, 2002.
Michael J. Kurtz,
Assistant Archivist for Record Services—Washington, DC.

[FR Doc. 02-28626 Filed 11-8-02; 8:45 am]

BILLING CODE 7515-01-P